ENVIRONMENTAL PROTECTION AGENCY

[FRL-7251-7]

Agency Information Collection Activities: Submission for OMB Review; Comment Request, Acid Rain Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Acid Rain Program, OMB Control Number 2060-0258, Expiration date September 30, 2002. The ICR describes the nature of the information collection and its expected burden and cost; where appropriate, it includes the actual data collection instrument.

DATES: Comments must be submitted on or before August 26, 2002.

ADDRESSES: Send comments, referencing EPA ICR No. 1633.13 and OMB Control No. 2060-0258, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov or download off the Internet at http://www.epa.gov/icr and refer to EPA ICR No. 1633.13. For technical questions about the ICR contact Kenon Smith at (202-564-9164).

SUPPLEMENTARY INFORMATION: Title: Acid Rain Program, OMB Control No. 2060-0258, EPA ICR No.1633.13, expiration date 9/30/2002. This is a request for extension of a currently approved collection.

Abstract: The Acid Rain Program was established under Title IV of the 1990 Clean Air Act Amendments. The program calls for major reductions of the pollutants that cause acid rain while establishing a new approach to environmental management. This information collection is necessary to implement the Acid Rain Program. It includes burden hours associated with developing and modifying permits, transferring allowances, obtaining allowances from the conservation and renewable energy reserve, monitoring emissions, participating in the annual auctions, completing annual compliance certifications, participating in the Opt-in program, and complying with NOX permitting requirements. Most of this information collection is mandatory under 40 CFR parts 72 through 78. Some parts of it are voluntary or to obtain a benefit, such as participation in the annual auctions under 40 CFR part 73, subpart E. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on2/13/2002 (67 FR 6706); No comments were received.

Burden Statement: The annual public reporting and recordkeeping burden for this collection of information is estimated to average91 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Electric Utilities and Industrial Sources.

Estimated Number of Respondents: 1,450.

Frequency of Response: Occasionally, Quarterly, and Annually.

Estimated Total Annual Hour Burden: 1,600,807 hours.

Estimated Total Annualized Capital, O&M Cost Burden: $171,969,000.

Send comments on the Agency's need for this information, the accuracy of the provided burden estimates, and any suggested methods for minimizing respondent burden, including through the use of automated collection techniques to the above addresses. Please refer to EPA ICR No. 1633.13 and OMB Control No. 2060-0258 in any correspondence.

Dated: July 18, 2002.
Oscar Morales,
Director, Collection Strategies Division.

[FR Doc. 02-18992 Filed 7-25-02; 8:45 am]

BILLING CODE 6560-50-P